ENVIRONMENTAL PROTECTION AGENCY

40 CFR Part 52

[EPA-R05-OAR-2017-0583; EPA-R05-OAR-2019-0311; EPA-R05-OAR-2020-0501; FRL 9056-03-R5]

Air Plan Approval; Illinois; Removal of Infrastructure SIP Requirements for the 2012 PM2.5 and 2015 Ozone NAAQS

AGENCY: Environmental Protection Agency (EPA).

ACTION: Final rule.

SUMMARY: Due to the receipt of an adverse comment on a direct final rule published on September 29, 2021, the Environmental Protection Agency (EPA) is revising its regulations approving elements of a State Implementation Plan revision submitted by the Illinois Environmental Protection Agency on September 29, 2017, May 16, 2019, and September 22, 2020. The submitted revisions were intended to address the infrastructure requirements of section 110 of the Clean Air Act for the 2012 annual fine particulate matter (PM2.5) and 2015 ozone National Ambient Air Quality Standards (NAAQS).

DATES: This final rule is effective January 18, 2022.

FOR FURTHER INFORMATION CONTACT: Olivia Davidson, Environmental Scientist, Attainment Planning and Maintenance Section, Air Programs Branch (AR-18J), EPA, Region 5, 77 West Jackson Boulevard, Chicago, Illinois 60604, (312) 886-0266. davidson.olivia@epa.gov. The EPA Region 5 office is open from 8:30 a.m. to 4:30 p.m., Monday through Friday, excluding Federal holidays and facility closures due to COVID-19.

SUPPLEMENTARY INFORMATION: EPA published a direct final rule on September 29, 2021 (86 FR 53872), approving elements of a State Implementation Plan (SIP) revision submitted by the State of Illinois regarding the infrastructure requirements of section 110 of the Clean Air Act (CAA) for the 2012 PM2.5 and 2015 ozone NAAQS and approving the infrastructure requirements related to Prevention of Significant Deterioration (PSD) for previous NAAQS. In the direct final rule, EPA stated that if adverse comments were received by October 29, 2021, the rule would be withdrawn and not take effect. On October 27, 2021, EPA received a comment. EPA believes this comment is adverse and, therefore, EPA is revising its regulations because EPA was unable to withdraw the direct final rule before it took effect. EPA will address the comment in a subsequent final action based upon the proposed action also published on September 29, 2021. See 86 FR 53915. EPA will not institute a second comment period on this action.

List of Subjects in 40 CFR Part 52

Environmental protection, Air pollution control, Incorporation by reference, Intergovernmental relations, Ozone, Particulate matter.

Authority: 42 U.S.C. 7401 et seq.

Dated: January 11, 2022.
Debra Shore,
Regional Administrator, Region 5.

For the reasons stated in the preamble, EPA amends 40 CFR part 52 as follows:

PART 52—APPROVAL AND PROMULGATION OF IMPLEMENTATION PLANS

1. The authority citation for part 52 continues to read as follows:

Authority: 42 U.S.C. 7401 et seq.

2. In § 52.720, the table in paragraph (e) is amended under the heading “Section 110(a)(2) Infrastructure Requirements” by:

a. Revising the entries for “1997 8-hour Ozone NAAQS Infrastructure Requirements”, “1997 PM2.5 NAAQS Infrastructure Requirements”, “2006 24-hour PM2.5 NAAQS Infrastructure Requirements”, “2008 Lead NAAQS Infrastructure Requirements”, “2008 Ozone NAAQS Infrastructure Requirements”, “2010 NO2 NAAQS Infrastructure Requirements”, “2010 SO2 NAAQS Infrastructure Requirements”, and “2012 PM2.5 NAAQS Infrastructure Requirements”; and

b. Removing the entry “2015 Ozone NAAQS Infrastructure Requirements”.

The revisions read as follows:

§ 52.720 Identification of plan.

* * * * *

(e) * * *

EPA-Approved Illinois Nonregulatory and Quasi-Regulatory Provisions
Name of SIP provision | Applicable geographic or nonattainment area | State submittal date | EPA approval date | Comments
* * * * * * *
Section 110(a)(2) Infrastructure Requirements
1997 8-hour Ozone NAAQS Infrastructure Requirements | Statewide | 12/12/2007 | 7/13/2011, 76 FR 41075 | CAA elements 110(a)(2)(A), (B), (C) with respect to enforcement, (D)(ii), (E) through (H), (J) except for prevention of significant deterioration (PSD), and (K) through (M) have been approved. CAA elements 110(a)(2)(C) and (J) with respect to PSD have been disapproved.
1997 PM2.5 NAAQS Infrastructure Requirements | Statewide | 12/12/2007 | 7/13/2011, 76 FR 41075 | CAA elements 110(a)(2)(A), (B), (C) with respect to enforcement, (D)(ii), (E) through (H), (J) except for prevention of significant deterioration (PSD), and (K) through (M) have been approved. CAA elements 110(a)(2)(C) and (J) with respect to PSD have been disapproved.
2006 24-hour PM2.5 NAAQS Infrastructure Requirements | Statewide | 8/9/2011, supplemented on 8/25/2011, 6/27/2012, and 7/5/2017 | 9/23/2019, 84 FR 4967 | All CAA infrastructure elements under 110(a)(2) have been approved except (D)(i)(I) [Prongs 1 and 2], (D)(ii), and the PSD portions of (C), (D)(i)(II) [Prong 3], and (J), which have been disapproved. The disapproved elements have Federal Implementation Plans (FIP) in place and no further action is needed.
2008 Lead NAAQS Infrastructure Requirements | Statewide | 12/31/2012 and 7/5/2017 | 9/23/2019, 84 FR 49671 | All CAA infrastructure elements under 110(a)(2) have been approved except (D)(ii), and the PSD portions of (C), (D)(i)(II) [Prong 3], and (J), which have been disapproved. The disapproved elements have Federal Implementation Plans (FIP) in place and no further action is needed.
2008 Ozone NAAQS Infrastructure Requirements | Statewide | 12/31/2012 and 7/5/2017 | 9/23/2019, 84 FR 49671 | All CAA infrastructure elements under 110(a)(2) have been approved except (D)(i)(I) [Prongs 1 and 2], (D)(ii), and the PSD portions of (C), (D)(i)(II) [Prong 3], and (J), which have been disapproved. The disapproved elements have Federal Implementation Plans (FIP) in place and no further action is needed.
2010 NO2 NAAQS Infrastructure Requirements | Statewide | 12/31/2012 and 7/5/2017 | 9/23/2019, 84 FR 49671 | All CAA infrastructure elements under 110(a)(2) have been approved except (D)(ii), and the PSD portions of (C), (D)(i)(II) [Prong 3], and (J), which have been disapproved. The disapproved elements have Federal Implementation Plans (FIP) in place and no further action is needed.
2010 SO2 NAAQS Infrastructure Requirements | Statewide | 12/31/2012 and 7/5/2017 | 9/23/2019, 84 FR 49671 | All CAA infrastructure elements under 110(a)(2) have been approved except (D)(ii), and the PSD portions of (C), (D)(i)(II) [Prong 3], and (J), which have been disapproved, and (D)(i)(I) [Prongs 1 and 2], which have not yet been submitted. The disapproved elements have Federal Implementation Plans (FIP) in place and no further action is needed.
2012 PM2.5 NAAQS Infrastructure Requirements | Statewide | 9/29/2017 | 6/20/2019, 84 FR 28745 | Fully approving CAA transport requirements of (D)(i)(I).

[FR Doc. 2022-00785 Filed 1-14-22; 8:45 am]

BILLING CODE 6560-50-P